DEPARTMENT OF VETERANS AFFAIRS

[OMB Control No. 2900-0559]

Agency Information Collection Activity: (Grant Funded Cemetery Data Sheet and Cemetery Grant Documents)

AGENCY: National Cemetery Administration, Department of Veterans Affairs.

ACTION: Notice.

SUMMARY: The National Cemetery Administration (NCA), Department of Veterans Affairs (VA), is announcing an opportunity for public comment on the proposed collection of certain information by the Agency. Under the Paperwork Reduction Act (PRA) of 1995, Federal agencies are required to publish notice in the Federal Register concerning each proposed collection of information, including each revised collection allow 30 days for public comment in response to the notice. This notice solicits comments on information of the VA Forms required of a State or Tribal Organization seeking a grant for the establishment, expansion, or improvement of a State of Tribal veterans cemetery for preapplication.

DATES: Written comments and recommendations for the proposed information collection should be sent within 30 days of publication of this notice by clicking on the following link www.reginfo.gov/public/do/PRAMain, select “Currently under Review—Open for Public Comments”, then search the list for the information collection by title or “OMB Control No. 2900-0559.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0559” in any correspondence.

SUPPLEMENTARY INFORMATION:

Authority: 25 U.S.C. 450b(1); 38 U.S.C. 501; 38 U.S.C. 2408; 38 U.S.C. 2411; 38 CFR 39.31.

Title: Grant Funded Cemetery Data, VA Form 40-0241 and Cemetery Grant Documents, 40-0895 Series.

OMB Control Number: 2900-0559.

Type of Review: Revision of a currently approved collection.

Abstract: VA Form 40-0241 and Cemetery Grant Documents, 40-0895 Series, are required to provide data regarding the number of interments conducted at VA Grant Funded Veterans cemeteries and support grant preapplication each year. This data is necessary for budget, oversight and compliance purposes associated with exiting and establishment of new State and Tribal government Veteran cemeteries.

An agency may not conduct or sponsor, and a person is not required to respond to a collection of information unless it displays a currently valid OMB control number. The Federal Register notice with a 60-day comment period soliciting comments on this collection of information was published at 88 FR 43423, July 7, 2023.

Affected Public: State, local and Tribal governments.

Estimated Annual Burden: 296 hours.

Estimated Average Burden per Respondent: 15 minutes.

Frequency of Response: One-time.

Estimated Number of Respondents: 292.

By direction of the Secretary.
Maribel Aponte,
VA PRA Clearance Officer, Office of Enterprise and Integration, Data Governance Analytics, Department of Veterans Affairs.

[FR Doc. 2023-19695 Filed 9-12-23; 8:45 am]

BILLING CODE 8320-01-P